DEPARTMENT OF HEALTH AND HUMAN SERVICES

National Institutes of Health

Center for Scientific Review; Amended Notice of Meeting

Notice is hereby given of a change in the meeting of the Center for Scientific Review Special Emphasis Panel, June 6, 2005, 12 p.m. to June 6, 2005, 1 p.m., Lathan Hotel, 3000 M Street, NW., Washington, DC 20007 which was published in the Federal Register on May 6, 2005, 70 FR 24099-24102.

The meeting will be held June 6, 2005, 12 p.m. to June 7, 2005, 12 p.m. The meeting location remains the same. The meeting is closed to the public.

Dated: May 31, 2005.
LaVerne Y. Stringfield,
Director, Office of Federal Advisory Committee Policy.

[FR Doc. 05-11219 Filed 6-6-05; 8:45 am]

BILLING CODE 4140-01-M